FEDERAL COMMUNICATIONS COMMISSION

47 CFR Part 73

[DA 01-2485: MM Docket No. 00-174; RM-9965]

Radio Broadcasting Services; Kailua-Kona, HI

AGENCY: Federal Communications Commission

ACTION: Final rule.

SUMMARY: At the request of Nick Koster this document alots Channel 244A to Kailua-Kona, Hawaii. See 65 FR 59164, published October 4, 2000. The reference coordinates for the Channel 244A allotment at Kailua-Kona, Hawaii, are 19-38-26 and 155-59-44.

DATES: Effective December 11, 2001.

FOR FURTHER INFORMATION CONTACT: Robert Hayne, Mass Media Bureau (202) 418-2177.

SUPPLEMENTARY INFORMATION: This is a synopsis of the Commission's Report and Order in MM Docket No. 00-174, adopted October 24, 2001, and released October 26, 2001. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Hawaii, is amended by adding Kailua-Kona, Channel 244A.

Federal Communications Commission.
John A. Karousos,
Chief, Allocations Branch, Policy and Rules Division, Mass Media Bureau.

[FR Doc. 01-28075 Filed 11-7-01; 8:45 am]

BILLING CODE 6712-01-P